DEPARTMENT OF STATE

[Delegation of Authority No. 569]

Delegation of Authority to the Assistant Secretary for Political Military Affairs

ACTION: Delegation of Authority.

SUMMARY: The State Department is publishing a Delegation of Authority signed by the Secretary of State on December 19, 2024. .

SUPPLEMENTARY INFORMATION: Antony J. Blinken, Secretary of State, signed the following “Delegation of Authority to the Assistant Secretary for Political-Military Affairs to Provide Concurrence under 10 U.S.C. 335” on December 19, 2024. The State Department maintains the original document.

(Begin text.)

By virtue of the authority vested in the Secretary of State by the laws of the United States, including section 1 of the State Department Basic Authorities Act (22 U.S.C. 2651a) and 10 U.S.C. 335, I hereby delegate to the Assistant Secretary for Political-Military Affairs, to the extent authorized by law, the authority to concur with respect to assistance authorized by section 335 of title 10 of the U.S. Code.

Any function or authority delegated herein may be exercised by the Secretary, either Deputy Secretary, or the Under Secretary for Arms Control and International Security. Any reference in this delegation of authority to any statute or delegation of authority shall be deemed to be a reference to such statute or delegation of authority as amended from time to time and shall be deemed to apply to any provision of law that is the same or substantially the same as such statute. The authority delegated herein may be re-delegated, to the extent authorized by law.

This document will be published in the Federal Register.

(End text.)

Zachary A. Parker,
Director, Office of Organizational Policy, Department of State.

[FR Doc. 2025-01207 Filed 1-16-25; 8:45 am]

BILLING CODE 4710-25-P